DEPARTMENT OF HEALTH AND HUMAN SERVICES

Administration for Strategic Preparedness and Response

National Advisory Committee on Individuals With Disabilities and Disasters Public Meeting

AGENCY: Administration for Strategic Preparedness and Response (ASPR), U.S. Department of Health and Human Services (HHS).

ACTION: Notice.

SUMMARY: The National Advisory Committee on Individuals with Disabilities and Disasters (NACIDD) announces it will conduct a public meeting. Notice of the meeting is required under section 10(a)(2) of the Federal Advisory Committee Act (FACA).

DATES: The meeting will take place Tuesday, December 10, 2024 (1:30 p.m.-3:30 p.m. ET).

ADDRESSES: The pre-registration link and a more detailed agenda will be available on the NACIDD website at https://aspr.hhs.gov/AboutASPR/WorkingwithASPR/BoardsandCommittees/Pages/NACIDD/NACIDD-Meetings.aspx.

FOR FURTHER INFORMATION CONTACT: Sylvia Sosa; NACIDD Designated Federal Official, (202) 843-3876; nacidd@hhs.gov.

SUPPLEMENTARY INFORMATION: The NACIDD is required by section 2811B of the Public Health Service Act (PHS) Act (42 U.S.C. 300hh-10d), as amended by the Pandemic and All-Hazards Preparedness and Advancing Innovation Act (PAHPAIA), Public Law 116-22, and governed by the provisions of FACA. The NACIDD evaluates issues and programs and provides findings, advice, and recommendations to support and enhance all-hazards public health and medical preparedness, response activities, and recovery related to meeting the unique needs of people with disabilities. The NACIDD also advises the HHS Secretary on actions HHS can take before, during, and after disasters and emergencies to meet the unique needs of people with disabilities.

Procedures for Public Participation: The public and expert stakeholders are invited to observe the meeting virtually, pre-registration is required. The pre-registration link and a more detailed agenda will be available on the NACIDD website. Anyone may submit questions and comments to the NACIDD by email (NACIDD@hhs.gov) before the meeting. American Sign Language translation and Communication Access Real-Time Translation will be provided. We would like to specifically seek input from the public on: (1) Data and monitoring resources to identify the needs of at-risk individuals in an emergency, and (2) Emergency Support Functions of the National Response Framework to identify gaps in equitable incident management and disaster response for people with disabilities. Representatives from industry, academia, health professions, health care consumer organizations, non-federal government agencies, or community-based organizations may request up to five minutes to speak directly to the Committee. Requests to speak to the Committee will be approved in consultation with the Committee Chair and based on time available during the meeting. Requests to speak to the NACIDD during the public meeting must be sent to NACIDD@hhs.gov by close of business on December 5, 2024. Please provide the full name, credentials, official position(s), and relevant affiliations for the speaker and a brief description of the intended topic. Presentations that contain material with a commercial bias, advertising, marketing, or solicitations will not be allowed. A meeting summary will be available on the NACIDD website after the meeting. he Administrator and Assistant Secretary for Preparedness and Response of ASPR, Dawn O'Connell, having reviewed and approved this document, authorizes Adam DeVore, who is the Federal Register liaison, to electronically sign this document for purposes of publication in the Federal Register.

Adam DeVore,
Federal Register Liaison, Administration for Strategic Preparedness and Response.

[FR Doc. 2024-25887 Filed 11-12-24; 8:45 am]

BILLING CODE 4150-37-P